DEPARTMENT OF TRANSPORTATION

Federal Aviation Administration

[Docket No. FAA-2004-16944]

Operating Limitations at Chicago O'Hare International Airport

ACTION: Notice of order to show cause and request for information.

SUMMARY: The FAA has issued an order to show cause, which solicits the views of interested persons on the FAA's tentative determination to extend until October 31 an August 18, 2004, order limiting the number of scheduled aircraft arrivals at O'Hare International Airport during peak operating hours. The order to show cause also invites written views on whether the FAA should allocate any unused capacity while the extended order is in effect and, if so, how the FAA should allocate any such unused capacity. The text of the order to show cause is set forth in this notice.

DATES: Any written information that responds to the FAA's order to show cause must be submitted by February 24, 2005.

ADDRESSES: You may submit written information, identified by docket number FAA-2004-16944, by any of the following methods:

• Web site: http://dms.dot.gov. Follow the instructions for submitting information on the DOT electronic docket site.

• Fax: 1-202-493-2251.

• Mail: Docket Management System, U.S. Department of Transportation, 400 Seventh Street, SW., Nassif Building, Room PL-401, Washington, DC 20590-0001. If sent by mail, information is to be submitted in two copies. Persons wishing to receive confirmation of receipt of their written submission should include a self-addressed stamped postcard.

• Hand Delivery: Docket Management System, Room PL-401, on the plaza level of the Nassif Building, 400 Seventh Street, SW., Washington, DC, between 9 a.m. and 5 p.m., Monday through Friday, except Federal holidays.

Instructions: You must include the agency name and docket number FAA-2004-16944 for this notice at the beginning of the information that you submit. Note that the information received will be posted without change to http://dms.dot.gov, including any personal information provided. Submissions to the docket that include trade secrets, confidential, commercial, or financial information, or sensitive security information will not be posted in the public docket. Such information will be placed in a separate file to which the public does not have access, and a note will be placed in the public docket to state that the agency has received such materials from the submitter.

FOR FURTHER INFORMATION CONTACT: Gerry Shakley, System Operations, Air Traffic Organization: telephone (202) 267-9424; facsimile (202) 267-7277; e-mail gerry.shakley@faa.gov.

SUPPLEMENTARY INFORMATION:

Order To Show Cause

The Federal Aviation Administration (FAA) has tentatively determined that it will extend through October 31, 2005, the FAA's August 18, 2004, order limiting scheduled operations at O'Hare International Airport (O'Hare). This order to show cause invites air carriers and other interested persons to submit comments in Docket No. FAA-2004-16944 on this proposal to extend the duration of the August 18 order.

In the absence of the FAA's extension of the August 18 order, the FAA anticipates a return of the congestion-related delays that precipitated the voluntary schedule reductions and adjustments reflected in the August 18 order. In a separate docket, the FAA intends to soon solicit public comment on a proposed rule that would limit the number of scheduled operations at O'Hare. The FAA expects that the extension of the August 18 order would coincide with the effective date of any final rule adopted after the FAA's consideration of the public comments filed in that docket.

The FAA's authority to extend the August 18 order is the same as the authority cited in that order. In part, the FAA proposes to extend the August 18 order under the agency's broad authority in 49 U.S.C. 40103(b) to regulate the use of the navigable airspace of the United States. This provision authorizes the FAA to develop plans and policy for the use of navigable airspace and, by order or rule, to regulate the use of the airspace as necessary to ensure its efficient use.

Background

On August 18, 2004, the FAA issued an order limiting the number of scheduled arrivals that air carriers conduct at O'Hare during peak hours. The August 18 order followed a period during which O'Hare operated without any regulatory constraint on the number of aircraft operations, and O'Hare experienced significant congestion-related delay. According to the Bureau of Transportation Statistics, in November 2003, O'Hare ranked last among the nation's thirty-one major airports for on-time arrival performance, with on-time arrivals 57.26% of the time. O'Hare also ranked last in on-time departures in November 2003, yielding on-time departures 66.94% of the time. The data for December 2003 reflected a similar performance by O'Hare—ranking last with 60.06% of arrivals on time and 67.23% of departures on time. Despite the high proportion of delayed flights, however, when the air carriers published their January and February 2004 schedules in the Official Airline Guide, the schedules revealed that the air carriers intended to add still more flight operations to O'Hare's schedule.

In January 2004, the two air carriers conducting most of the scheduled operations at O'Hare—together accounting for about 88% of O'Hare's scheduled flights—agreed to a temporary 5% reduction of their proposed peak-hour schedules at the airport. When the voluntarily reduced schedules failed to reduce sufficiently O'Hare's congestion-related flight delays, the two air carriers agreed to a further 2.5% reduction of their scheduled peak-hour operations at O'Hare. The FAA captured the voluntary schedule reductions in FAA orders, and the orders were effective through October 30, 2004.

By the summer of 2004, it was apparent that the schedule reductions agreed to in the first half of the year, which were made by only two of the many air carriers conducting scheduled operations at O'Hare, were unlikely to be renewed after the orders expired on October 30. In the absence of a voluntary constraint, the industry's proposed schedules for November, as reported in the preliminary Official Airline Guide in July, reflected that the number of scheduled arrivals during several hours would approach or exceed O'Hare's highest possible arrival capacity. During one hour, the number of scheduled arrivals would have exceeded by 32% O'Hare's capacity under ideal conditions.

Therefore, the FAA invited all scheduled air carriers to an August 2004 scheduling reduction meeting to discuss overscheduling at O'Hare, voluntary schedule reductions, and retiming flights to less congested periods. The August meeting and subsequent negotiations led the FAA to issue the August 18 order, which limited the number of scheduled arrivals conducted by U.S. and Canadian air carriers at O'Hare during peak operating hours. The order also defined opportunities for new entry and for growth by limited incumbent air carriers at O'Hare. The order took effect November 1, 2004, and in the absence of an extension, it will expire on April 30, 2005.

The flight limits implemented by the August 18 order have been effective. Preliminary data reflect that the voluntary schedule reductions and adjustments that the order implements have in the first three months yielded a 21% reduction in average arrival delay minutes at O'Hare when compared to the published August 2004 schedules. Comparing the operational data for O'Hare from November 2003 with that from November 2004, the voluntary schedule adjustments over that period have cumulatively resulted in an approximate 42% reduction in average arrival delay minutes.

Order To Show Cause

The FAA is planning to issue soon a notice of proposed rulemaking to address, for a specified duration, scheduled operations at O'Hare. The notice would solicit public comment on a proposed regulation in a separate public docket associated with that rulemaking. After considering the comments received on the proposed rule, the FAA expects to issue a final rule that will address congestion-related delay at O'Hare. The rulemaking process would enable the FAA to adopt more refined measures for managing air traffic at O'Hare, but the FAA could not complete such a process before the August 18 order's current expiration date.

To prevent a recurrence of overscheduling at O'Hare during the interim between the expiration of the August 18, 2004, order on April 30 and, if adopted, the effective date of a rule, the FAA tentatively intends to extend the August 18 order. The limits on arrivals and allocation of arrival rights embodied in the August 18 order reflect the FAA's agreements with U.S. and Canadian air carriers. As a result, maintaining the order for an additional six months constitutes a reasonable approach for preventing unacceptable congestion and delays at O'Hare. The August 18 order, as extended, would expire on October 31, 2005.

The August 18 order does not include a mechanism to allocate any capacity that is unused by the air carrier to which it was assigned in the August 18 order. The FAA is specifically soliciting views on whether the FAA should allocate unused capacity under an extended order and, if so, how the FAA should allocate any such unused capacity.

Accordingly, the FAA directs all interested persons to show cause why the FAA should not make final its tentative findings and tentative decision to extend the August 18 order through October 31, 2005, by filing their written views in Docket No. FAA-2004-16944 on or before February 24, 2005. The FAA does not intend this request for the views of interested persons to address the longer-term issues that will be considered in any forthcoming proposed rulemaking. Therefore, any submissions to the current docket should be limited to the issues specified in this order.

Issued in Washington, DC, on February 10, 2005.
Rebecca MacPherson,
Assistant Chief Counsel for Regulation.

[FR Doc. 05-2927 Filed 2-10-05; 3:46 pm]

BILLING CODE 4910-13-P